DEPARTMENT OF DEFENSE

Department of the Army

Prospective Grant of Exclusive Patent License

AGENCY: Department of the Army, DoD.

ACTION: Notice.

SUMMARY: In accordance with 35 U.S.C. 209 and 37 CFR 404, U.S. Army Research, Development and Engineering Command (RDECOM) hereby given notice that it is contemplating the grant of an exclusive license in the United States to practice the below referenced invention owned by the U.S. Government to TSI Incorporated, 500 Cardigan Road, Shoreview, MN 55126.

FOR FURTHER INFORMATION CONTACT: Mr. John Biffoni, Intellectual Property Attorney, U.S. Army Research, Development and Engineering Command, ATTN: AMSRD-CC (Bldg E4435), Aberdeen Proving Ground, MD 21010-5424, phone: (410) 436-1158; Fax: 410-436-2534 or e-mail: u.john.biffoni@us.army.mil.

SUPPLEMENTARY INFORMATION: The prospective exclusive license may be granted, unless REDECOM receives written evidence and argument to establish that the grant of the license would not be consistent with the requirements of 35 U.S.C. 209 and 37 CFR 404.7 on or before July 29, 2005. The following Patent Number, Title, and Issue Date is provided:

Title: “Low Concentration Aerosol”.

Description: The present invention relates to an apparatus useful in generating and counting low concentrations of individual aerosol particles.

Patent Number: 5,918,254.

Issue Date: June 29, 1999.

Brenda S. Bowen,
Army Federal Register Liaison Officer.

[FR Doc. 05-13857 Filed 7-13-05; 8:45 am]

BILLING CODE 3710-08-M